Title 3—

The President

Proclamation 10660 of October 31, 2023

Critical Infrastructure Security and Resilience Month, 2023

By the President of the United States of America

A Proclamation

Throughout our history, America has been a can-do country full of possibilities. Our people are models of grit, drive, and determination, and when we properly prepare ourselves, we can meet any challenge that comes our way and ensure future generations thrive. This Critical Infrastructure Security and Resilience Month, let us recommit to reinforcing our critical infrastructure and remaining vigilant to threats that undermine our collective security and economic prosperity.

That means protecting our investments from all hazards and ensuring the infrastructure that American people rely on every day is secure and resilient. Climate change is making natural disasters more frequent, ferocious, and costly, straining our highways, railways, waterways, and energy systems. These disruptions—whether a natural disaster, a pandemic, or a cyberattack—exploit vulnerabilities in our supply chains and make it more difficult to access critical products when people need them. State and non-state actors, such as criminals and violent extremists, continue to target our power grids, pipelines, health care systems, and water systems—threatening the infrastructure that underpins our economy, public health and safety, and national security. As President, I am committed to building a better future for our country by making America's critical infrastructure more secure and addressing the threats and hazards that place them at risk.

Bolstering the Nation's infrastructure is a cornerstone of my Investing in America agenda. With a combination of funding from the American Rescue Plan, Bipartisan Infrastructure Law, the Inflation Reduction Act, and the CHIPS and Science Act, we are investing billions of dollars to enhance the security of our infrastructure by elevating roads and bridges above projected flood zones, supporting community resilience programs, reducing the strain put on our power grids, and so much more. These investments will save lives, protect our families, render a strong and innovative economy, enhance our resilience to disasters, and provide peace of mind to millions of Americans.

We know that to protect our critical infrastructure we must improve our cybersecurity. From the very beginning of my Administration, we have worked tirelessly to strengthen our Nation's cyber defenses. During my first year in office, I issued an Executive Order on Improving the Nation's Cybersecurity, a crucial step toward defending against the increasingly malicious cyber campaigns targeting our infrastructure. My Bipartisan Infrastructure Law builds on this progress by investing $1 billion to bolster cybersecurity for State, local, Tribal, and territorial governments. I am proud to have appointed senior cybersecurity officials who are laser-focused on anticipating and responding to cyber threats and ensuring that the Federal Government leverages all of its resources to improve the cybersecurity of the Nation's critical infrastructure. These priorities have been catalyzed by my National Cybersecurity Strategy released earlier this year, which lays out our strategy to enhance the cybersecurity and resilience of our Nation's critical infrastructure and the American people.

While my Administration is investing to protect America's critical infrastructure, we are also working with our international partners to build sustainable, resilient infrastructure around the globe. At the G20 Summit earlier this year, through the Partnership for Global Infrastructure and Investment, I was proud to unveil the launch of the landmark United States partnership with the European Union to develop the Trans-African Corridor. We are working with partners to connect the Democratic Republic of the Congo and Zambia to regional and global trade markets through the Port of Lobito in Angola, including by launching feasibility studies for a new greenfield rail line expansion between Zambia and Angola. This reliable and cost-effective corridor will increase efficiencies, secure regional supply chains, enhance economic unity, generate jobs, and decrease the carbon footprint in both countries. We hope to pursue opportunities to connect our initial investments across the continent to Tanzania and, ultimately, the Indian Ocean. Through quality infrastructure investments in key economic corridors like these, we are creating a better future filled with opportunity, dignity, and prosperity for everyone.

The United States is the only country in the world that becomes stronger after every challenge we face. Time and again, we have seen that when we work together, nothing is beyond our capacity. This Critical Infrastructure Security and Resilience Month, let us come together in common cause to bolster our Nation's critical infrastructure and create a more resilient nation and economy for generations to come.

NOW, THEREFORE, I, JOSEPH R. BIDEN JR., President of the United States of America, by virtue of the authority vested in me by the Constitution and the laws of the United States, do hereby proclaim November 2023 as Critical Infrastructure Security and Resilience Month. I call upon the people of the United States to recognize the importance of protecting our Nation's infrastructure and to observe this month with appropriate measures to enhance our national security and resilience.

IN WITNESS WHEREOF, I have hereunto set my hand this thirty-first day of October, in the year of our Lord two thousand twenty-three, and of the Independence of the United States of America the two hundred and forty-eighth.

[FR Doc. 2023-24482

Filed 11-2-23; 8:45 am]

Billing code 3395-F4-P